DEPARTMENT OF THE INTERIOR

Minerals Management Service

Outer Continental Shelf (OCS) Mid-Atlantic Proposed Oil and Gas Lease Sale 220

AGENCY: Minerals Management Service (MMS), Interior.

ACTION: Notice of indefinite postponement of comment period on and cancellation of public meetings to scope for an Environmental Impact Statement (EIS) for Proposed Mid-Atlantic Oil and Gas Lease Sale 220.

SUMMARY: This Notice serves to cancel scoping meetings and to postpone the comment period on scoping for Sale 220 until further notice. Three public scoping meetings that had been scheduled on May 12, 25, and 27, in the Federal Register (Vol. 75, No. 82, page 22623) to solicit information to assist MMS in preparing an EIS to evaluate potential environmental effects of proposed Lease Sale 220 are hereby cancelled. Also, the public scoping meeting scheduled for May 12, 2010, in Norfolk, Virginia, to solicit public input on both Sale 220 and the Geological & Geophysical Programmatic EIS on the Mid- and South Atlantic OCS (G&G PEIS) is hereby cancelled. This Notice does not affect the public scoping period for the G&G PEIS. The scoping period for that PEIS ends on May 17, 2010 (see 75 FR 16830).

Pursuant to the regulations implementing the procedural provisions of the National Environmental Policy Act of 1969, as amended (42 U.S.C. 4321 et seq) (NEPA), MMS had reopened the scoping comment period on the EIS for proposed Lease Sale 220 for a period of 45 days from the date of the Federal Register notice on April 29, 2010. The closing date for scoping under that notice was to be June 14, 2010. The scoping period for Lease Sale 220 is now postponed until or unless we provide further notification.

DATES: On April 29, 2010, MMS published a notice in the Federal Register (Vol. 75, No. 82, page 22623) announcing the continuation of scoping for a 45-day period and that three public meetings were scheduled on:

• May 12 at Hilton Norfolk Airport in Norfolk, Virginia;

• May 25 at Princess Royale Oceanfront Hotel and Conference Center, Ocean City, Maryland; and

• May 27 at Elizabeth City State University Fine Arts Complex in Elizabeth City, North Carolina.

These meetings are cancelled.

Comments: Comments that are provided in the period between publication of the notification reopening scoping on April 29, 2010, and this notification of postponed scoping will be held together with comments received during the initial scoping period of November 13, 2008 through January 13, 2009. No further comments are being solicited for scoping of the Lease Sale 220 EIS pending decision by the Secretary of the Interior.

FOR FURTHER INFORMATION CONTACT: For information on the status for the Sale 220 EIS scoping, please contact Mr. Gary D. Goeke, Chief, Environmental Assessment Section, Leasing and Environment (MS 5410), Minerals Management Service, Gulf of Mexico OCS Region, 1201 Elmwood Park Boulevard, New Orleans, LA 70123-2394, telephone (504) 736-3233.

SUPPLEMENTARY INFORMATION: With respect to proposed Lease Sale 220, MMS issued a Notice of Intent to prepare an EIS published in the Federal Register on November 13, 2008 (Vol. 73, No. 220, page 67201), and included a 45-day scoping period. No scoping meetings were announced at that time. The MMS decided to extend the comment period and made announcements in a press release and other media. On January 7, 2009, MMS published a notice in the Federal Register (Vol. 74, No. 4, page 727) extending the scoping comment period to 60 days. That comment period expired on January 13, 2009. Scoping had been reopened in the Federal Register notice published on April 29, 2010 (Vol. 75, No. 82, page 22623). Today's notice postpones indefinitely scoping for the Sale 220 EIS until or unless MMS provides further notification.

Dated: May 4, 2010.
S. Elizabeth Birnbaum,
Director, Minerals Management Service.

[FR Doc. 2010-10981 Filed 5-6-10; 8:45 am]

BILLING CODE 4310-MR-P